DEPARTMENT OF COMMERCE

National Institute of Standards and Technology

[Notice 1]

National Fire Codes: Request for Comments on NFPA Technical Committee Reports

AGENCY: National Institute of Standards and Technology, Commerce.

ACTION: Notice.

SUMMARY: The National Fire Protection Association (NFPA) revises existing standards and adopts new standards twice a year. At its November Meeting or its May Meeting, the NFPA acts on recommendations made by its technical committees.

The purpose of this notice is to request comments on the technical reports that will be presented at NFPA's 2001 May Meeting. The publication of this notice by the National Institute of Standards and Technology (NIST) on behalf of NFPA is being undertaken as a public service; NIST does not necessarily endorse, approve, or recommend any of the standards referenced in the notice.

DATES: The National Electrical Code® is published in a separate Report on Proposals and is available about July 14, 2000. Comments received on or before October 27, 2000 will be considered by the National Electrical Code Panels before NFPA takes final action on the proposals.

Twenty-seven reports are published in the 2001 May Meeting Report on Proposals and will be available on July 28, 2000. Comments received on or before October 6, 2000 will be considered by the respective NFPA Committees before final action is taken on the proposals.

ADDRESSES: The 2001 May Meeting Report on Proposals and the NEC® Report on Proposals are available and downloadable from NFPA's Website—www/nfpa.org or by requesting a copy from the NFPA, Fulfillment Center, 11 Tracy Drive, Avon, MA 02322. Comments on the reports should be submitted to Casey C. Grant, Secretary, Standards Council, NFPA, 1 Batterymarch Park, P.O. Box 9101, Quincy, Massachusetts 02269-9101.

FOR FURTHER INFORMATION CONTACT: Casey C. Grant, Secretary, Standards Council, NFPA, 1 Batterymarch Park, Quincy, MA 02269-9101, (617) 770-3000.

Background

The National Fire Protection Association (NFPA) develops building, fire, and electrical safety codes and standards. Federal agencies frequently use these codes and standards as the basis for developing Federal regulations concerning fire safety. Often, the Office of the Federal Register approves the incorporation by reference of these standards under 5 U.S.C. 552(a) and 1 CFR Part 51.

Revisions of existing standards and adoption of new standards are reported by the technical committees at the NFPA's November Meeting or at the May Meeting each year. The NFPA invites public comment on its Report on Proposals.

Request for Comments

Interested persons may participate in these revisions by submitting written data, views, or arguments to Casey C. Grant, Secretary, Standards Council, NFPA, 1 Batterymarch Park, Quincy, Massachusetts 02269-9101. Commenters may use the forms provided for comments in the Reports on Proposals. Each person submitting a comment should include his or her name and address, identify the notice, and give reasons for any recommendations. Comments received on or before October 6, 2000 for the 2001 May Meeting Report on Proposals or October 27, 2000 for the NEC® Report on Proposals will be considered by the NFPA before final action is taken on the proposals.

Copies of all written comments received and the disposition of those comments by the NFPA committees will be published as the 2001 May Meeting Report on Comments by March 30, 2001, or April 16, 2001 for the NEC® Report on Comments, prior to the May Meeting.

A copy of the Report on Comments will be sent automatically to each commenter. Action on the reports of the Technical Committees (adoption or rejection) will be taken at the May Meeting, May 13-17, 2001 in Anaheim, California, by NFPA members.

Dated: July 6, 2000.
Karen H. Brown,
Deputy Director.

2001 May Meeting Report on Proposals
Doc No. | Title | Action
NFPA 15 | Standard for Water Spray Fixed Systems for Fire Protection | P
NFPA 40 | Standard for the Storage and Handling of Cellulose Nitrate Motion Picture Film | P
NFPA 70 | National Electrical Code | P
NFPA 80A | Recommended Practice for Protection of Buildings from Exterior Fire Exposures | P
NFPA 96 | Standard for Ventilation Control and Fire Protection of Commercial Cooking Operations | P
NFPA 231D | Standard for Storage of Rubber Tires | W
NFPA 268 | Standard Test Method for Determining Ignitibility of Exterior Wall Assemblies Using a Radiant Heat Energy Source | R
NFPA 271 | Standard Method of Test for Heat and Visible Smoke Release Rates for Materials and Products Using an Oxygen Consumption Calorimeter | P
NFPA 288 | Standard Method of Fire Tests of Floor Door Assemblies | N
NFPA 301 | Code for Safety to Life from Fire on Merchant Vessels | P
NFPA 306 | Standard for the Control of Gas Hazards on Vessels | P
NFPA 407 | Standard for Aircraft Fuel Servicing | P
NFPA 409 | Standard on Aircraft Hangars | P
NFPA 414 | Standard for Aircraft Rescue and Fire Fighting Vehicles | P
NFPA 495 | Explosive Materials Code | P
NFPA 498 | Standard for Safe Havens and Interchange Lots for Vehicles Transporting Explosives | R
NFPA 502 | Standard for Road Tunnels, Bridges, and Other Limited Access Highways | P
NFPA 513 | Standard for Motor Freight Terminals | W
NFPA 655 | Standard for Prevention of Sulfur Fires and Explosions | P
NFPA 704 | Standard System for the Identification of the Hazards of Materials for Emergency Response | C
NFPA 1081 | Standard for Industrial Fire Brigade Member Professional Qualifications | N
NFPA 1124 | Code for the Manufacture, Transportation, and Storage of Fireworks and Pyrotechnic Articles | C
NFPA 1125 | Code for the Manufacture of Model Rocket and High Power Rocket Motors | C
NFPA 1142 | Standard on Water Supplies for Suburban and Rural Fire Fighting | C
NFPA 1710 | Standard for the Organization and Deployment of Fire Suppression, Emergency Medical Operations, and Special Operations to the Public by Career Fire Departments | N
NFPA 1720 | Standard on Volunteer Fire Service Deployment | N
NFPA 2112 | Standard on Flash Fire Protective Garments for Industrial Personnel | N
NFPA 2113 | Standard on Selection, Care, Use, and Maintenance of Flash Fire Protective Garments | N
P = Partial revision; W = Withdrawal; R = Reconfirmation; N = New; C = Complete Revision

[FR Doc. 00-17791 Filed 7-12-00; 8:45 am]

BILLING CODE 3510-13-M